CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Social Innovation Fund (SIF) Application Instructions for review and approval in accordance with the Paperwork Reduction Act of 1995. These instructions combine the previously approved SIF Application Instructions (OMB Control Number 3045-0155) and SIF Pay for Success Application Instructions (OMB Control Number 3045-0167) into one document. Copies of this ICR, with applicable supporting documentation, may be obtained by calling the Corporation for National and Community Service, Lois Nembhard, SIF Director (Acting) at 202-606-3223 or email to innovation@cns.gov. Individuals who use a telecommunications device for the deaf (TTY-TDD) may call 1-800-833-3722 between 8:00 a.m. and 8:00 p.m. Eastern Time, Monday through Friday.

DATES: Comments may be submitted, identified by the title of the information collection activity, within April 17, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 23, 2016 at 81 FR 94342. This comment period ended February 21, 2017. No public comments were received from this Notice.

Description: Comment request.

Type of Review: New.

Agency: Corporation for National and Community Service.

Title: Social Innovation Fund (SIF) Application Instructions.

OMB Number: TBD.

Agency Number: None.

Affected Public: Organizations applying for funding by the Social Innovation Fund.

Total Respondents: 50.

Frequency: Annual.

Average Time per Response: Averages 24 hours.

Estimated Total Burden Hours: 1,200.

Total Burden Cost (capital/startup): None.

Total Burden Cost (operating/maintenance): None.

Dated: March 10, 2017.
Lois Nembhard,
Director (Acting), Social Innovation Fund.

[FR Doc. 2017-05312 Filed 3-16-17; 8:45 am]

BILLING CODE 6050-28-P